DEPARTMENT OF THE INTERIOR

Bureau of Land Management

[WY-100-06-1310-DB]

Notice of Availability of Draft Supplemental Environmental Impact Statement for the Pinedale Anticline Oil and Gas Exploration and Development Project, Sublette County, WY

AGENCY: Bureau of Land Management, Interior.

ACTION: Notice of availability.

SUMMARY: Under Section 102(2)(C) of the National Environmental Policy Act (NEPA) of 1969, as amended, the Bureau of Land Management (BLM), Pinedale Field Office announces the availability of a Draft Supplemental Environmental Impact Statement (SEIS) on a proposal for long-term development of natural gas resources in the Pinedale Anticline Project Area (PAPA). The BLM published the Notice of Intent (NOI) to prepare a SEIS for the Pinedale Anticline Project in the Federal Register on October 21, 2005.

DATES: The Draft SEIS will be available for public comment for 60 days starting on the date the Environmental Protection Agency publishes its Notice of Availability in the Federal Register. A separate CALGRID airborne ozone report will be published subsequent to the release of the Draft SEIS. The BLM can best utilize your comments on the supplemental information if they are received within the 60 day review period provided above. To provide the public with an opportunity to review the proposal and project information, the BLM will host a meeting in Pinedale, Wyoming. The BLM will notify the public of the meeting date, time, and location at least 15 days prior to the event. Announcement of the public meeting will be made by news release to the media, individual letter mailings, and posting on the BLM website, listed below, if it is available.

ADDRESSES: Please send written comments or resource information to the Bureau of Land Management, Pinedale Field Office, Matt Anderson, Project Manager, 432 East Mill Street, P.O. Box 768, Pinedale, Wyoming 82941. Electronic mail may be sent to: WYMail_PAPA_YRA@blm.gov. The SEIS will be posted at http://web.wy.blm.gov when available.

Your response is important and will be considered in the environmental analysis process. If you do respond, we will keep you informed of decisions resulting from this analysis. Please note that public comments and information submitted regarding this project including names, e-mail addresses, and street addresses of the respondents will be available for public review and disclosure at the above address during regular business hours (7:45 a.m. to 4:30 p.m.), Monday through Friday, except holidays. Individual respondents may request confidentiality. If you wish to withhold your name, e-mail address, or street address from public review or from disclosure under the Freedom of Information Act, you must state this plainly at the beginning of your written comment. Such requests will be honored to the extent allowed by the law. All submissions from organizations or businesses, and from individuals identifying themselves as representatives or officials of organizations or businesses, will be made available for public inspection in their entirety.

FOR FURTHER INFORMATION CONTACT: Bureau of Land Management, Matt Anderson, Project Manager at (307) 367-5328, or by e-mail: matt_anderson@blm.gov; or by the address above.

SUPPLEMENTARY INFORMATION: The BLM conducted NEPA analysis and issued a Record of Decision (ROD) for the Pinedale Anticline Oil and Gas Exploration and Development Project in July 2000 in response to the increasing number of operators requesting approval to drill and develop oil and gas wells on the Pinedale Anticline. The NEPA document analyzed three alternatives with different levels of required mitigation, and for each alternative, there were three exploration and development scenarios based on the density and distribution of well pad development. The PAPA ROD established seasonal restrictions on natural gas development to minimize adverse effects on wintering big game and sage-grouse during breeding and nesting. The PAPA Final EIS did not include analysis of the potential impacts of oil and gas development activities (specifically drilling and completions) to big game on crucial winter ranges during the period of November 15 through April 30. Exceptions to this winter closure period were to be based on current conditions such as the presence of wintering animals or depth of snow cover on a case-by-case basis.

Starting in the winter of 2002-2003, the BLM authorized Questar Exploration and Production (Questar) to continue gas development operations at one well pad within big game crucial winter range. Questar was required to cooperate fully with the Wyoming Game and Fish Department in the study of the impact of its operations by supporting the ongoing Sublette Mule Deer Study. In November 2004, the BLM issued a Decision Record allowing Questar to expand their development activities in crucial mule deer winter range during winter while continuing to support the Sublette Mule Deer Study (Questar Year-Round Drilling Proposal Environmental Assessment, November 2004).

Since then, other operators within the PAPA have expressed interest in conducting gas development activities including year-round drilling within big game crucial winter range. In the summer of 2005, Anschutz, Shell Exploration and Production Company (Shell), and Ultra Resources Inc. (Ultra) submitted a proposal to the BLM for a year-round drilling demonstration project on three well pads within their leaseholds during 1 year. In September 2005, the BLM issued a Decision Record to allow them to proceed (ASU Year-Round Drilling Demonstration Project, September 2005). The Decision Record allowed each of the three operators to drill year-round on one well pad each on crucial winter range during the winter of 2005-2006. The result of that project led to the current proposal and to BLM's determination that a Supplemental EIS is necessary. The PAPA encompasses approximately 198,034 acres of primarily Federal lands (nearly 80 percent), and State and private land. Approximately 83 percent of the mineral estate underlying the PAPA is Federally-owned.

Alternatives: The BLM has received a proposal for continued development of natural gas resources in the PAPA from Questar, Shell, and Ultra, representing themselves and others who agree to participate, collectively referred to as the Operators. There are currently approximately 460 producing wells in the PAPA; the Operators' proposal would exceed the drilling activity analyzed in the PAPA ROD (2000). The NEPA and air quality impact analyses supporting the PAPA ROD (2000) addressed 900 total wells and 700 producing well pads.

The PAPA ROD stated that if the level of development exceeded that analyzed in the Draft EIS, that BLM would conduct additional environmental analysis. The BLM has identified the following resources that may be adversely impacted beyond the level analyzed in the PAPA ROD and the resources will be analyzed in the Draft SEIS: surface and ground water; air quality; wildlife and their habitats; vegetation; visual resources; transportation; noxious weeds; grazing; cultural and paleontological; wetland and riparian; threatened and endangered animal and plant species; and socioeconomics. In addition to the proposed action, the Draft SEIS analyzes the effects of the no-action alternative and the BLM preferred alternative, which are summarized below.

Proposed Action: The Operators propose to conduct year-round drilling and completions in Concentrated Development Areas within a Core Development Area (coinciding with the Anticline Crest) of the PAPA. The Operators' proposed development includes construction of new well pads and substantial expansion of existing well pads to allow for multiple wells drilled from a pad. The Operators propose an additional 4,399 wells on approximately 10-acre bottom hole spacing from an additional 250 well pads to more effectively recover the mineral resource. In addition, the BLM has determined that there is a need for new pipeline corridors between the PAPA and processing plants in southwestern Wyoming. Therefore, the SEIS includes specific analysis for two additional gas sales pipelines from the PAPA, one to the Granger and Blacks Fork gas plant and one from the PAPA to the Opal and Pioneer gas plant.

Concurrent with the drilling and development activities, the Operators propose 3:1 compensatory mitigation to offset wildlife impacts and to study and evaluate the effects of oil and gas activities on big game using crucial winter ranges and sage-grouse using seasonal habitats during the winter months (November 15 through April 30).

No Action Alternative: This alternative would continue development within the PAPA as approved in the PAPA ROD and subsequent environmental documents and would not consider the Operators' proposal to: provide compensatory mitigation; minimize habitat fragmentation; and maximize resource recovery through multi-well pads and directional drilling.

BLM Preferred Alternative: This alternative analyzes the same number of drilled wells, pad expansions, new well pads, proposed compensatory mitigation, and pipeline routes as the proposed action with limitations on where year-round drilling could occur at any one time within a core development area. The preferred alternative also reduces the size of the core development area from the proposed action.

Dated: September 22, 2006.
Robert A. Bennett,
State Director.

[FR Doc. E6-21309 Filed 12-14-06; 8:45 am]

BILLING CODE 4310-22-P